DEPARTMENT OF TRANSPORTATION

Federal Aviation Administration

14 CFR Part 71

[Docket No. FAA 2003-16676; Airspace Docket No. 03-ASO-16]

RIN 2120-AA66

Revision of VOR Federal Airway V-537

AGENCY: Federal Aviation Administration (FAA), DOT.

ACTION: Final rule.

SUMMARY: This action revises Very High Frequency Omnidirectional Range (VOR) Federal Airway V-537 by changing the origination point of the airway from the Vero Beach, FL, Very High Frequency Omnidirectional Range/Tactical Air Navigation (VORTAC) to the Palm Beach, FL, VORTAC. The FAA is taking this action to enhance the management of aircraft in the Palm Beach, FL, area.

EFFECTIVE DATE: 0901 UTC, October 27, 2005.

FOR FURTHER INFORMATION CONTACT: Paul Gallant, Airspace and Rules, Office of System Operations and Safety, Federal Aviation Administration, 800 Independence Avenue, SW., Washington, DC 20591; telephone: (202) 267-8783.

SUPPLEMENTARY INFORMATION:

Background

On February 3, 2004, the FAA proposed to modify V-537 by changing the origination point of the airway from the Vero Beach VORTAC to the Palm Beach VORTAC (69 FR 5098). Interested parties were invited to participate in this rulemaking effort by submitting written comments on the proposal. No comments were received. With the exception of editorial changes, this amendment is the same as that proposed in the notice.

The Rule

This action amends Title 14 Code of Federal Regulations (14 CFR) part 71 by revising the legal description of V-537 in the vicinity of Palm Beach, FL. The revision incorporates into the airway routing that is used by air traffic control when directing aircraft to Palm Beach, FL. Currently, Miami Air Route Traffic Control Center issues a clearance to aircraft destined for the Palm Beach terminal area by directing aircraft to proceed via the Vero Beach VORTAC, then along V-295 to STOOP intersection, then via V-492 to the Palm Beach VORTAC. This modification incorporates this routing as an extension to V-537. The modification to V-537 will reduce pilot-controller communications, alleviate radio frequency congestion, reduce the potential for pilot readback errors, and enhance the management of aircraft operations in the Vero Beach-Palm Beach area.

Domestic VOR Federal airways are published in paragraph 6010(a) of FAA Order 7400.9M, dated August 30, 2004, and effective September 16, 2004, which is incorporated by reference in 14 CFR 71.1. The VOR Federal airway listed in this document will be published subsequently in the order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034, February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9M, Airspace Designations and Reporting Points, dated August 30, 2004, and effective September 16, 2004, is amended as follows:

Paragraph 6010(a)—Domestic VOR Federal Airways.

* * * * *

V-537 [Revised]

From Palm Beach, FL; INT Palm Beach 356° and Vero Beach, FL, 143° radials; Vero Beach; INT Vero Beach 318° and Orlando. FL, 140° radials; INT Orlando 140° and Melbourne, FL 298° radials; INT Melbourne 298° and Ocala, FL 145° radials; Ocala; Gators, FL; Greenville, FL; Moultrie, GA; to Macon, GA.

* * * * *

Issued in Washington, DC, on July 6, 2005.
Edith V. Parish,
Acting Manager, Airspace and Rules.

[FR Doc. 05-13682 Filed 7-11-05; 8:45 am]

BILLING CODE 4910-13-P